DEPARTMENT OF COMMERCE

National Oceanic and Atmospheric Administration

RIN 0648-XE394

Endangered and Threatened Species; Status Update on Preparation of Record of Decision, Mitchell Act Hatcheries Environmental Impact Statement

AGENCY: National Marine Fisheries Service (NMFS), National Oceanic and Atmospheric Administration, Commerce.

ACTION: Notice.

SUMMARY: The National Marine Fisheries Service (NMFS) released its final Environmental Impact Statement (EIS) to Inform Columbia River Basin Hatchery Operations and the Funding of Mitchell Act Hatchery Programs in September 2014 (also known as the Mitchell Act Hatchery EIS). This notice serves as an update on preparation of the agency's record of decision (ROD).

FOR FURTHER INFORMATION CONTACT: James Dixon, (360) 534-9329 or email: james.dixon@noaa.gov.

SUPPLEMENTARY INFORMATION: On September 3, 2004 (69 FR 53892), NMFS announced its intent to prepare an EIS pursuant to the National Environmental Policy Act (NEPA) (42 U.S.C. 4321 et seq.) and to conduct public scoping related to the allocation and distribution of Mitchell Act funds for Columbia River hatchery operations. Subsequently, in 2009, NMFS announced its decision to expand the scope of the EIS to include analysis of the environmental effects of all hatchery programs in the Columbia River Basin, regardless of the hatchery funding source, in a way that would inform future NMFS decisions about Endangered Species Act compliances for all Columbia River hatchery programs (74 FR 10724, March 12, 2009). A draft EIS was published in August 2010 (75 FR 47591, August 6, 2010). The final EIS was published in September 2014 (79 FR 54707, September 12, 2014) with a public review period through November 12, 2014.

NMFS has been preparing its ROD through careful consideration of a range of comments received during public review of the final EIS. NMFS is also considering the anticipated effects of its preferred policy direction on species listed under the Endangered Species Act. It is anticipated that the ROD will be published in 2016.

Dated: January 12, 2016.
Perry F.Gayaldo,
Deputy Director, Office of Protected Resources, National Marine Fisheries Service.

[FR Doc. 2016-00734 Filed 1-14-16; 8:45 am]

BILLING CODE 3510-22-P